DEPARTMENT OF ENERGY

Federal Energy Regulatory Commission

[Project No. 14546-000]

Houtama Hydropower LLC; Notice of Preliminary Permit Application Accepted for Filing and Soliciting Comments, Motions To Intervene, and Competing Applications

On August 14, 2013, Houtama Hydropower LLC filed an application for a preliminary permit, pursuant to section 4(f) of the Federal Power Act (FPA), proposing to study the feasibility of the McKay Dam Hydroelectric Project (project) to be located at McKay Dam near Pendleton in Umatilla County, Oregon. The sole purpose of a preliminary permit, if issued, is to grant the permit holder priority to file a license application during the permit term. A preliminary permit does not authorize the permit holder to perform any land-disturbing activities or otherwise enter upon lands or waters owned by others without the owners' express permission.

The proposed project would utilize flows at the existing McKay Reservoir, and would consist of the following new features: (1) A 48-inch diameter, 60-foot-long steel penstock that extends from the existing dam penstock to a powerhouse; (2) a 20-foot by 30-foot powerhouse; (3) a single 2.3-megawatt turbine/generator; (4) a switchyard with a 69 kilovolt (kV) step-up transformer; (5) an approximately 3,000-foot-long, 69-kV transmission line interconnecting to the Pacific Power distribution system; and (6) appurtenant facilities. The estimated annual generation of the project would be 5 gigawatt-hours.

Applicant Contact: Mr. William C. Hampton, CEO, Houtama Hydropower LLC, 1044 NW 12th Drive, Pendleton, OR 97801-1268; phone: (541) 969-2276.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14546-000.

More information about this project, including a copy of the application, can be viewed or printed on the “eLibrary” link of Commission's Web site at http://www.ferc.gov/docs-filing/elibrary.asp. Enter the docket number (P-14546) in the docket number field to access the document. For assistance, contact FERC Online Support.

Dated: November 8, 2013.
Kimberly D. Bose,
Secretary.

[FR Doc. 2013-27525 Filed 11-15-13; 8:45 am]

BILLING CODE 6717-01-P